DEPARTMENT OF LABOR

Employment and Training Administration

[TA-W-60,797]

Via Information Tools Incorporated, Troy, MI; Notice of Termination of Investigation

Pursuant to Section 221 of the Trade Act of 1974, as amended, an investigation was initiated on January 22, 2007 in response to a petition filed on behalf of workers of VIA Information Tools Incorporated, Troy, Michigan.

The petition regarding the investigation has been deemed invalid. The petition was signed by one dislocated worker. A petition filed by workers requires three (3) signatures. Consequently, the investigation has been terminated.

Signed at Washington, DC, this 24th day of January 2007.
Linda G. Poole,
Certifying Officer, Division of Trade Adjustment Assistance.

[FR Doc. E7-1468 Filed 1-30-07; 8:45 am]

BILLING CODE 4510-30-P